DEPARTMENT OF COMMERCE

U.S. Census Bureau

Proposed Information Collection; Comment Request; National Survey of Fishing, Hunting, and Wildlife-Associated Recreation (FHWAR) Cell Phone and Debit Card Test

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before October 12, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Deborah Kinnaman at the U.S. Census Bureau, 4600 Silver Hill Road, Room 7H113, Washington, DC 20233-8400 (or via the Internet at deborah.a.kinnaman@census.gov.)

SUPPLEMENTARY INFORMATION

I. Abstract

The U.S. Fish and Wildlife Service (FWS) and the U.S. Census Bureau plan to conduct (covered under separate OMB clearance number 1018-0088) the 2011 National Survey of Fishing, Hunting, and Wildlife-Associated Recreation (FHWAR). The FHWAR data assist Federal and State agencies in administering the Sport Fish and Wildlife Restoration grant programs and provide up-to-date information on the uses and demands for wildlife-related recreation resources, trends in uses of those resources, and a basis for developing and evaluating programs and projects to meet existing and future needs.

In 2011, the majority (about 90%) of FHWAR cases will be conducted by Computer-Assisted Telephone Interviewing (CATI) in the Census Bureau's decentralized telephone centers. The remaining cases (about 10%) will be conducted by Computer-Assisted Personal Interviewing (CAPI) in the Census Bureau's regional offices. Because the FHWAR is an address-based sample, we predict we will be able to obtain a phone number for approximately 50% of the addresses through address-telephone match vendors and through research conducted by the telephone centers. We will not be able to obtain telephone numbers for approximately 34,064 cases in sample; these cases will be eligible for a CAPI interview. Unfortunately, the budget for the 2011 FHWAR is significantly limiting the number of CAPI interviews that we can conduct. Therefore, we will subsample and pre-identify approximately 5,200 cases (out of the 34,064 cases without phone numbers) for the CAPI sample.

All households will be mailed an advance letter prior to interviewing explaining the survey and requesting that a household member call one of the Census Bureau telephone centers to conduct an interview. In addition to the CATI cases, the pre-identified 5,200 CAPI cases will be available for CATI interviewing in the telephone centers with the expectation that some respondents in these households will call the telephone centers to conduct an interview in CATI. The CATI operation will begin on April 1, 2011. One month later, the cases that were pre-selected for CAPI that have not been conducted in CATI will be transferred to field representatives for personal visits in the CAPI operation.

As part of the 2011 FHWAR, we plan to research alternative methods to improve response rates and coverage and to maximize the CATI operation since budget restrictions have significantly reduced, and will continue to reduce, our CAPI sample adding variance to the data. The CAPI component is particularly important because we know that households with available phone numbers may differ in characteristics from those without telephones and those with unlisted phone numbers.

In an effort to reach households in which a phone number is unobtainable, we plan to conduct a test in the first wave of interviewing (the FHWAR is conducted in three waves) that includes three panels of 500 households each. These panels will be subsampled from the 34,064 cases without attainable phone numbers. (The remaining 27,364 cases of the 34,064 eligible for CAPI will not be selected for the 2011 FHWAR.) These 1,500 cases will remain in the CATI sample; they will not be transferred to the CAPI operation.

The first panel will receive an advance letter with a prepaid cell phone. The advance letter will request that a household member call the telephone center and complete an interview using the cell phone. Census Bureau interviewers also will attempt to call these households using the cell phone number during the production period.

The second panel will receive an advance letter and a $25.00 debit card. The advance letter will request that a household member call the telephone center to complete an interview and accept the debit card as a “thank you” for participating.

The third panel will receive only an advance letter that requests a household member call the telephone center to complete an interview.

Note: The data from these three test panels will be analyzed separately for research purposes, and therefore will be excluded from the final 2011 FHWAR survey data.

We plan to have two additional panels of all the households from our FHWAR survey sample for quality comparison. The first additional panel (Panel 4) will be cases that are sent to CAPI in the FHWAR survey. The second additional panel (Panel 5) will be the cases from our CATI sample. Both of these panels will receive an advance letter requesting that a household member call the telephone center to complete an interview. The table below outlines the panel sample sizes.

2011 FHWAR Research Panels: Panel | 2011 FHWAR Research Panels: Sample Size
1. Advance Letter and Cell Phone | 500
2. Advance Letter and Incentive | 500
3. Advance Letter Only | 500
4. Advance Letter with Personal Visit Follow-up (CAPI)* | 5,200
5. Advance Letter with Telephone Follow-up (CATI) | 47,891
* Note: Panels 4 and 5 are FHWAR production sample which will be used for comparison.

The five panels will help us determine whether there are viable alternatives to collecting data through a personal visit when we only have an address. First, we would like to decide if any of these alternatives are feasible. If the operation of collecting the data works, (i.e., test respondents call the telephone centers and/or contact is made via the cell phone), we want to determine which alternative works best in terms of response rates and cost.

First, we will look at the response rates of the five panels. We will consider Panel 4 (Advance Letter with Personal Visit—the current method) as the base line for our study. We will compare the response rate from this panel to the response rates of Panels 1, 2, and 3. These comparisons will help us determine if any of the alternative procedures produce response rates equal to or greater than the current method for cases without phone numbers. Within the three alternative methods, we will consider Panel 3 as a base line and compare its response rate to the response rates of Panels 1 and 2. This test will determine which of the three alternatives produces the highest response rate. In another analysis, we will compare the response rate of the cases with no available phone number to the response rate of the cases with a phone number (Panel 4 versus Panel 5). This will help to determine whether conducting a CATI interview differs from conducting a CAPI interview in terms of response rates.

We also will analyze the cost and data quality to decide whether sending the household a cell phone or monetary incentive are possible options in the survey data collection process. We will analyze the cost to determine if we can obtain any savings by introducing either of these methods, even if the response rates differ across panels. If this study proves successful, it will provide an option for future FHWAR surveys and other Census surveys by helping to identify the difference between telephone- and no-telephone-available households. This may allow us to minimize CAPI interviewing and maximize CATI interviewing.

II. Method of Collection

Data is collected either by CATI or by CAPI. CATI interviewing is scheduled to begin April 1, 2011 and end on June 5, 2011. CAPI interviewing is scheduled to begin May 5, 2011 and end on June 5, 2011.

III. Data

OMB Control Number: None.

Form Number: None.

Type of Review: Regular submission.

Affected Public: Households or Individuals.

Estimated Number of Respondents: 1,500.

Estimated Time Per Response:

Screener—7 minutes;

Hunting and Fishing—1st Interview—14 minutes;

Wildlife Watching—1st interview—11 minutes.

Estimated Total Annual Burden Hours:

Activity | Number of household respondents | Number of participant respondents | Completion time per response (minutes) | Annual burden hours
Screener | 1,500 |  | 7 | 175
Hunting and Fishing |  | 246 | 14 | 57
Wildlife Observer |  | 121 | 11 | 22
Totals* | 1,500 | 367 |  | 254
* Note: The burden hours for Panels 4 and 5 are covered in a separate OMB clearance for the FHWAR survey.

Estimated Total Annual Cost: No cost to the respondent.

Respondent's Obligation: Voluntary.

Legal Authority: Title 13 U.S.C. Section 8(b).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Gwellnar Banks,
Management Analyst, Office of the Chief Information Officer.

[FR Doc. 2010-19679 Filed 8-9-10; 8:45 am]

BILLING CODE 3510-07-P